DEPARTMENT OF TRANSPORTATION

Federal Highway Administration

Notice of Final Federal Agency Actions on Proposed SR-126 (Memorial Boulevard) Improvement Project in Tennessee

AGENCY: Federal Highway Administration (FHWA), DOT.

ACTION: Notice of limitation on claims for Judicial Review of actions by FHWA and other Federal agencies.

SUMMARY: This notice announces actions taken by FHWA and other Federal agencies that are final within the meaning of 23 U.S.C. 139(l)(1). The actions relate to a proposed highway project, State Route (SR) 126 (Memorial Boulevard) Improvements, from East Center Street to Interstate 81 (I-81) in Sullivan County, Tennessee. Those actions grant licenses, permits, and approvals for the project.

DATES: By this notice, FHWA is advising the public of final agency actions subject to 23 U.S.C. 139(l)(1). A claim seeking judicial review of the Federal agency actions on the highway project will be barred unless the claim is filed on or before December 10, 2015. If the Federal law that authorizes judicial review of a claim provides a time period of less than 150 days for filing such claim, then that shorter time period still applies.

FOR FURTHER INFORMATION CONTACT: For FHWA: Ms. Theresa Claxton; Planning and Program Management Team Leader; Federal Highway Administration; Tennessee Division Office; 404 BNA Drive, Building 200, Suite 508; Nashville, Tennessee 37217; Telephone (615) 781-5770; email: Theresa.Claxton@dot.gov. FHWA Tennessee Division Office's normal business hours are 7:30 a.m. to 4 p.m. (Central Time). You may also contact Mr. Jim Ozment, Environmental Division Director; Tennessee Department of Transportation (TDOT); James K. Polk Building, Suite 900; 505 Deaderick Street; Nashville, Tennessee 37243-0334; Telephone (615) 741-3655, Jim.Ozment@tn.gov. TDOT Environmental Division's normal business hours are 8 a.m. to 5 p.m. (Central Time).

SUPPLEMENTARY INFORMATION: Notice is hereby given that FHWA and other Federal agencies have taken final agency actions by issuing licenses, permits, and approvals for the following highway project in the State of Tennessee: SR 126 (Memorial Boulevard) Improvements, Project Number STP-126(10), Sullivan County, Tennessee. The proposed action will improve 8.4 miles of SR 126 (Memorial Boulevard), from East Center Street, within the City of Kingsport's city limits, east to I-81 in Sullivan County, Tennessee. The Selected Alternative (Alternative B Modified) proposes four travel lanes from East Center Street to Harbor Chapel Road, three travel lanes from Harbor Chapel Road to Old Stage Road, and two travel lanes from Old Stage Road to I-81. Portions of the corridor include (1) an additional eastbound travel lane to accommodate trucks ascending the steep grade; (2) a continuous, left-turn lane; and (3) a compressed roadway cross-section width to minimize impacts to a National Register of Historic Places (NRHP) listed resource. The actions by the Federal agencies, and the laws under which such actions were taken, are described in the Final Environmental Impact Statement (FEIS) for the project, approved on November 19, 2014; in the FHWA Record of Decision (ROD) issued on April 8, 2015, and in other documents in the FHWA administrative record. The FEIS, ROD, and other documents in the FHWA administrative record file are available by contacting the FHWA or TDOT at the addresses provided above. The FHWA FEIS and ROD can be viewed and downloaded from the project Web site at http://www.tdot.state.tn.us/sr126/, or viewed at the TDOT—Environmental Division; James K. Polk Building, Suite 900; 505 Deaderick Street; Nashville, Tennessee 37243-0334.

This notice does not apply to the Tennessee Valley Authority (TVA), or the U.S. Army Corps of Engineering (USACE) permitting processes for this project, because no TVA or USACE permits have been issued for the project to date. This notice applies to all Federal agency decisions as of the issuance date of this notice and all laws under which such actions were taken, including but not limited to:

1. General: National Environmental Policy Act (NEPA) [42 U.S.C. 4321-4351]; Federal-Aid Highway Act [23 U.S.C. 109, 23 U.S.C. 128, and 23 U.S.C. 139].

2. Air: Clean Air Act [42 U.S.C. 7401-7671(q) and 23 U.S.C. 109(j)].

3. Land: Section 4(f) of the Department of Transportation Act of 1966 [23 U.S.C. 138 and 49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)]; Uniform Relocation and Real Property Acquisition Policies Act of 1970 [42 U.S.C. 4601-4655]; Farmland Protection Policy Act (FPPA) [7 U.S.C. 4201-4209].

7. Wetlands and Water Resources: Clean Water Act (Section 404, Section 401, and Section 319) [33 U.S.C. 1251-1376].

8. Hazardous Materials: Comprehensive Environmental Response, Compensation, and Liability Act (CERCLA) [42 U.S.C. 9601-9675].

9. Executive Orders: E.O. 11990 Protection of Wetlands; E.O. 11988 Floodplain Management; E.O. 13112 Invasive Species; E.O. 12898 Federal Actions to Address Environmental Justice in Minority Populations and Low Income Populations; E.O. 13175 Consultation and Coordination with Indian Tribal Governments; E.O. 13166 Improving Access to Services for Persons with Limited English Proficiency (LEP); E.O. 11514 Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(1)

Issued on: July 6, 2015.
Sabrina David,
Assistant Division Administrator, Nashville, Tennessee.

[FR Doc. 2015-17028 Filed 7-10-15; 8:45 am]

BILLING CODE 4910-RY-P